DEPARTMENT OF ENERGY

Western Area Power Administration

Post-2004 Resource Pool-Loveland Area Projects

AGENCY: Western Area Power Administration, DOE.

ACTION: Notice of extension.

SUMMARY: Western Area Power Administration (Western), a Federal power marketing agency of the Department of Energy (DOE), published on May 11, 2001, in the Federal Register, a notice announcing the Post-2004 Loveland Area Projects Resource Pool Proposed Allocation of Power.

This notice extends the comment period from September 10, 2001, to close of business October 12, 2001. Western held public information and comment forums on the proposed allocations on August 2, 2001, August 7, 2001, and August 9, 2001. As a result of these meetings, several requests were made to extend the comment period to allow for further review of data for those entities receiving an allocation from two projects. This will also allow those entities to submit more in-depth comments on both projects.

DATES: To be assured of consideration, Western must receive all written comments by close of business October 12, 2001.

ADDRESSES: Send written comments about these proposed allocations to: Mr. Joel K. Bladow, Regional Manager, Rocky Mountain Customer Service Region, Western Area Power Administration, P.O. Box 3700, Loveland, CO 80539-3003. Comments may also be faxed to 970-461-7213 or e-mailed to post2004lap@wapa.gov. All documentation developed or retained by Western in developing the proposed allocations is available for inspection and copying at the Rocky Mountain Customer Service Region Office, at 5555 East Crossroads Boulevard, Loveland, CO 80538-8986.

FOR FURTHER INFORMATION CONTACT: Ron Steinbach, Power Marketing Manager, 970-461-7322; David Holland, Project Manager, 970-461-7505; or Susan Steshyn, Public Utilities Specialist, 970-461-7237. Written requests for information should be sent to Rocky Mountain Customer Service Region, Western Area Power Administration, P.O. Box 3700, Loveland, CO 80539-3003, faxed to 970-461-7213, or e-mailed to post2004lap@wapa.gov.

Dated: September 6, 2001.
Michael S. Hacskaylo,
Administrator.

[FR Doc. 01-22972 Filed 9-12-01; 8:45 am]

BILLING CODE 6450-01-P